GENERAL SERVICES ADMINISTRATION

[OMB Control No. 3090-0163; Docket 2014-0001; Sequence 4]

Submission to OMB for Review; General Services Administration; Information Specific to a Contract or Contracting Action (Not Required by Regulation)

AGENCY: Office of the Chief Acquisition Officer, General Services Administration (GSA).

ACTION: Notice of request for public comments regarding an extension to an existing OMB information collection.

SUMMARY: Under the provisions of the Paperwork Reduction Act, the Regulatory Secretariat Division will be submitting to the Office of Management and Budget (OMB) a request to review and approve an extension of a previously approved information collection requirement regarding Information Specific to a Contract or Contracting Action (not required by regulation). A notice was published in the Federal Register at 79 FR 42514, on July 22, 2014. No comments were received.

DATES: Submit comments on or before: November 19, 2014.

ADDRESSES: Submit comments identified by Information Collection 3090-0163, Information Specific to a Contract or Contracting Action (Not Required by Regulation), by any of the following methods:

• Regulations.gov: http://www.regulations.gov. Submit comments via the Federal eRulemaking portal by searching the OMB control number 3090-0163. Select the link “Comment Now” that corresponds with “Information Collection 3090-0163, Information Specific to a Contract or Contracting Action (Not Required by Regulation)”. Follow the instructions provided on the screen. Please include your name, company name (if any), and “Information Collection 3090-0163, Information Specific to a Contract or Contracting Action (Not Required by Regulation)”, on your attached document.

• Fax: 202-501-4067.

• Mail: General Services Administration, Regulatory Secretariat Division (MVCB), 1800 F Street NW., Washington, DC 20405. ATTN: Ms. Flowers/IC 3090-0163, Information Specific to a Contract or Contracting Action (Not Required by Regulation).

Instructions: Please submit comments only and cite Information Collection 3090-0163, Information Specific to a Contract or Contracting Action (Not Required by Regulation), in all correspondence related to this collection. All comments received will be posted without change to http://www.regulations.gov, including any personal and/or business confidential information provided.

FOR FURTHER INFORMATION CONTACT: Matthew E. McFarland, Program Analyst, GSA Acquisition Policy Division, at telephone 202-690-9232 or email matthew.mcfarland@gsa.gov.

SUPPLEMENTARY INFORMATION:

A. Purpose

The General Services Administration (GSA) has various mission responsibilities related to the acquisition and provision of supplies, transportation, information technology, telecommunications, real property management, and disposal of real and personal property. These mission responsibilities generate requirements that are realized through the solicitation and award of public contracts. In Fiscal Year 2013, these contracts had values ranging from under $100 to over $300,000,000.

Most GSA procurement-related information collections are required by the Federal Acquisition Regulation (FAR) or General Services Administration Acquisition Regulation (GSAR); each clause requiring such a collection must be individually approved by the Office of Management and Budget (OMB). However, some solicitations require contractors to submit information specific to that contracting action, such as information needed to evaluate offers (e.g. specific instructions for technical and price proposals, references for past performance) or data used to administer resulting contracts (e.g. project management plans).

This information collection is currently associated with GSA's information collection requirements contained in solicitations issued in accordance with the Uniform Contract Format under FAR Part 14, Sealed Bidding (see GSAR 514.201-1); FAR Part 15, Contracting by Negotiation (see GSAR 515.204-1); and solicitations under FAR Part 12, Acquisition of Commercial Items, when issued in accordance with the policy and procedures of FAR Part 14 and FAR Part 15 (see GSAR 512.301). This includes information collection requirements found in GSA Federal Supply Schedule (FSS) solicitations.

B. Annual Reporting Burden

Respondents: 267,021.

Responses per Respondent: 1.

Total Responses: 267,021.

Hours per Response: .40.

Total Burden Hours: 66,800.

C. Public Comments

Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the General Services Administration, Regulatory Secretariat Division (MVCB), 1800 F Street, Washington, DC 20405, telephone 202-501-4755. Please cite OMB Control No. 3090-0163, Information Specific to a Contract or Contracting Action (Not Required by Regulation), in all correspondence.

Dated: September 14, 2014.
Jeffrey Koses,
Senior Procurement Executive, Office of Acquisition Policy, Office of Government-wide Policy.

[FR Doc. 2014-24904 Filed 10-17-14; 8:45 am]

BILLING CODE 6820-61-P